DEPARTMENT OF ENERGY

Federal Energy Regulatory Commission

[Docket No. EL16-16-000; Docket No. QF06-17-004 ]

PáTu Wind Farm, LLC v. Portland General Electric Company, PáTu Wind Farm, LLC; Notice of Complaint

Take notice that on November 18, 2015, pursuant to sections 206 and 306 of the Federal Power Act (FPA),¹ section 210(h)(1) of the Public Utility Regulatory Policies Act (PURPA),² and Rule 206 of the Federal Energy Regulatory Commission's (Commission) Rules of Practice and Procedure,³ PáTu Wind Farm, LLC (PáTu or Complainant) filed a formal complaint against Portland General Electric Company (Respondent) alleging that Respondent violated the Commission's orders ⁴ by refusing to permit Complainant to establish a dynamic scheduling arrangement for delivery of power from the PáTu wind farm to Respondent's Balancing Authority Area, all as more fully explained in the complaint.

¹ 16 U.S.C. 824e & 825e.

² 16 U.S.C. 824a-3(h)(1).

³ 18 CFR 385.206 (2014).

⁴ PáTu Wind Farm, LLC v. Portland General Electric Co., 150 FERC ¶ 61,032, reh'g denied, 151 FERC ¶ 61,223 (2015), petitions for review pending sub nom., Portland General Electric Co. v. FERC, D.C. Cir. Nos. 15-1237 et al.

The Complainant certifies that a copy of the complaint has been served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 8, 2015.

Dated: November 18, 2015.
Nathaniel J. Davis, Sr.,
Deputy Secretary.

[FR Doc. 2015-30389 Filed 11-30-15; 8:45 am]

BILLING CODE 6717-01-P